DEPARTMENT OF TRANSPORTATION

Federal Aviation Administration

14 CFR Part 39

[Docket No. 2001-NM-322-AD; Amendment 39-13221; AD 2003-14-02 R1]

RIN 2120-AA64

Airworthiness Directives; Bombardier Model CL-600-2B19 (Regional Jet Series 100 & 440) Airplanes

AGENCY: Federal Aviation Administration, DOT.

ACTION: Final rule; correction.

SUMMARY: This document corrects information in an existing airworthiness directive (AD) that applies to certain Bombardier Model CL-600-2B19 (Regional Jet series 100 & 440) airplanes. That AD currently requires a one-time inspection of the aft edge of the left and right main windshields to determine whether a certain placard is installed, and corrective actions if necessary. This document corrects several incorrect references to the affected airplane models. This correction is necessary to ensure that model designations are specified as published in the most recent type certificate data sheet for the affected models.

DATES: Effective August 14, 2003.

The incorporation by reference of Bombardier Service Bulletin 601R-56-004, dated August 16, 2001, as listed in the regulations, was approved previously by the Director of the Federal Register as of August 14, 2003 (68 FR 41059, July 10, 2003).

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: On July 1, 2003, the Federal Aviation Administration (FAA) issued airworthiness directive (AD) 2003-14-02, amendment 39-13221 (68 FR 41059, July 10, 2003), which applies to certain Bombardier Model CL-600-2B19 (Regional Jet series 100 & 440) airplanes. That AD requires a one-time inspection of the aft edge of the left and right main windshields to determine whether a certain placard is installed, and corrective actions if necessary. That AD was prompted by a significant number of cracking incidents that occurred in the inner and middle panes of the main windshields during taxi, takeoff, climb, cruise, and descent of the airplane. The actions required by that AD are intended to prevent stress-related cracking of the windshields, and subsequent excessive frequency of abnormal procedures specified in the airplane flight manual and/or an emergency descent be accomplished, which poses an increased risk to passengers and crew members.

Need for the Correction

As published, that AD contains several incorrect references to the affected airplane models. As discussed in the preamble of that AD, we intended to revise the applicability of the final rule to identify model designations as published in the most recent type certificate data sheet. However, Regional Jet series “400,” which does not exist, was inadvertently indicated in several references instead of the correct model designation Regional Jet series “440.” The correct model designation (Bombardier Model CL-600-2B19 (Regional Jet Series 100 & 440) airplanes) was listed in the title of the AD.

The FAA has determined that a correction to AD 2003-14-02 is necessary. The correction will properly specify model designations as published in the most recent type certificate data sheet for the affected models.

Correction of Publication

This document corrects the error and correctly adds the AD as an amendment to section 39.13 of the Federal Aviation Regulations (14 CFR 39.13).

The AD is reprinted in its entirety with the changes incorporated for the convenience of affected operators. The effective date of the AD remains August 14, 2003.

Since this action only specifies model designations as published in the most recent type certificate data sheet for the affected models, it has no adverse economic impact and imposes no additional burden on any person. Therefore, the FAA has determined that notice and public procedures are unnecessary.

Restatement of Supplemental Information Section of AD 2003-14-02

A proposal to amend part 39 of the Federal Aviation Regulations (14 CFR part 39) to include an AD that is applicable to certain Bombardier Model CL-600-2B19 series airplanes was published in the Federal Register on May 20, 2002 (67 FR 35461). That action proposed to require a one-time inspection of the aft edge of the left and right main windshields to determine whether a certain placard is installed, and corrective actions if necessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

AD 2003-14-02 R1 Bombardier, Inc. (Formerly Canadair): Amendment 39-13221. Docket 2001-NM-322-AD.

Applicability: Model CL-600-2B19 (Regional Jet series 100 & 440) airplanes; certificated in any category; serial numbers 7003 and subsequent; equipped with main windshield units, part numbers 601R33033-1, -2, -5, -6, -9, or -10.

Compliance: Required as indicated, unless accomplished previously.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent stress-related cracking of the windshields, and subsequent excessive frequency of abnormal procedures specified in the airplane flight manual and/or an emergency descent be accomplished, which poses an increased risk to passengers and crew members; accomplish the following:

Inspection and Corrective Action

(a) For airplanes equipped with windshield units that have accumulated fewer than 2,500 total flight cycles as of the effective date of this AD: Within 6 months after 3 the effective date of this AD, accomplish a one-time general visual inspection of the aft edges of the left and right main windshields to determine whether a placard having part number (P/N) CSB-NP-139321-002-1 is installed, per the Accomplishment Instructions of Bombardier Service Bulletin 601R-56-004, dated August 16, 2001.

(1) If a placard having P/N CSB-NP-139321-002-1 is installed, no further action is required by this AD.

(2) If a placard having a P/N other than CSB-NP-139321-002-1 is installed, before further flight, accomplish the corrective actions (including modifying the main windshields by replacing nine of the hi-lok pins installed in the lower forward corner of the windshields with hi-lok pins having a reduced diameter shank, installing a placard having the correct P/N on the inner retainer near the part identification placard located along the aft edge of the window, and replacing any torn or deformed gasket), per the Accomplishment Instructions of the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 3: Bombardier Service Bulletin 601R-56-004, dated August 16, 2001, references PPG Industries, Inc., Service Bulletin CSB-NP-139321-002, Revision C, dated July 31, 2001, as an additional source of service information for accomplishment of the modification of the left and right main windshields.

4

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permit

(c) Special flight permits may be issued in accordance with sections 21.197 and 21.199 of the Federal Aviation Regulations (14 CFR 21.197 and 21.199) to operate the airplane to a location where the requirements of this AD can be accomplished.

Incorporation by Reference

(d) The actions shall be done in accordance with Bombardier Service Bulletin 601R-56-004, dated August 16, 2001. The incorporation by reference of that document was approved previously by the Director of the Federal Register as of August 14, 2003 (68 FR 41059, July 10, 2003). Copies may be obtained from Bombardier, Inc., Canadair, Aerospace Group, PO Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 5: The subject of this AD is addressed in Canadian airworthiness directive CF-2001-35R1, dated September 27, 2001.

Effective Date

(e) The effective date of this amendment remains August 11, 2003.

Issued in Renton, Washington, on August 11, 2003.
Neil D. Schalekamp,
Acting Manager, Transport Airplane Directorate, Aircraft Certification Service.

[FR Doc. 03-20834 Filed 8-14-03; 8:45 am]

BILLING CODE 4910-13-P